DEPARTMENT OF HEALTH AND HUMAN SERVICES

National Institutes of Health

Center for Scientific Review; Amended Notice of Meeting

Notice is hereby given of a change in the meeting of the Center for Scientific Review Special Emphasis Panel, October 23, 2013, 09:00 a.m. to October 23, 2013, 06:00 p.m., National Institutes of Health, 6701 Rockledge Drive, Bethesda, MD 20892 which was published in the Federal Register on October 1, 2013, 78 FR 60296.

The meeting will be held on November 26, 2013 from 09:00 a.m. to 06:30 p.m. The meeting location remains the same. The meeting is closed to the public.

Dated: October 25, 2013.
Carolyn A. Baum,
Program Analyst, Office of Federal Advisory Committee Policy.

[FR Doc. 2013-25681 Filed 10-29-13; 8:45 am]

BILLING CODE 4140-01-P